RAILROAD RETIREMENT BOARD

Sunshine Act Meetings

TIME AND DATE: 10 a.m., February 21, 2024.

PLACE: Members of the public wishing to attend the meeting must submit a written request at least 24 hours prior to the meeting to receive dial-in information. All requests must be sent to SecretarytotheBoard@rrb.gov.

STATUS: This meeting will be open to the public.

MATTERS TO BE CONSIDERED:

Welcome new Director of Administration.

OLA Briefing on Appropriations and Pending Legislation.

CONTACT PERSON FOR MORE INFORMATION: Stephanie Hillyard, Secretary to the Board, (312) 751-4920

(Authority 5 U.S.C. 552b)

Dated: February 9, 2024.
Stephanie Hillyard,
Secretary to the Board.

[FR Doc. 2024-03062 Filed 2-9-24; 4:15 pm]

BILLING CODE 7905-01-P